DEPARTMENT OF HOMELAND SECURITY

Office for Civil Rights and Civil Liberties; Submission for New Information Collection, DHS Individual Complaint of Employment Discrimination Form (DHS 3090-1)

ACTION: Notice; 60-day notice request for comments.

SUMMARY: The Department of Homeland Security (DHS) invites the general public and other federal agencies the opportunity to comment on new information collection request (ICR), DHS Individual Complaint of Employment Discrimination form (DHS Form 3090-1). As required by the Paperwork Reduction Act of 1995, (Pub. L. 104-13, 44 U.S.C. chapter 35) DHS is soliciting comments for the new information collection request.

DATES: Written comments should be received on or before December 13, 2004 to be assured consideration.

ADDRESSES: You may submit comments, identified by docket number DHS-2004-0003, by one of the following methods:

• EPA Federal Partner EDOCKET Web site: http://www.epa.gov/feddocket. Follow instructions for submitting comments on the Web site.

The Department of Homeland Security has joined the Environmental Protection Agency (EPA) online public docket and comment system on its Partner Electronic Docket System (Partner EDOCKET). The Department of Homeland Security and its agencies (excluding the United States Coast Guard and Transportation Security Administration) will use the EPA Federal Partner EDOCKET system. The USCG and TSA [legacy Department of Transportation (DOT) agencies] will continue to use the DOT Docket Management System until full migration to the electronic rulemaking federal docket management system in 2005.

• Federal eRulemaking Portal: http://www.regulations.gov. Follow the instructions for submitting comments.

• E-mail: mary.mcgoldrick@dhs.gov. Include docket number DHS-2004-0003 in the subject line of the message.

• Fax: (202) 772-9860

• Mail: Department of Homeland Security, Attention: Office of Civil Rights and Civil Liberties, Anacostia Naval Annex, 245 Murray Drive, Building 410, Washington, DC 20528.

• Hand Delivery/Courier: Department of Homeland Security, Attention: Office of Civil Rights and Civil Liberties, Anacostia Naval Annex, 245 Murray Drive, Building 410, Washington, DC 20528.

Instructions: All submissions received must include the agency name and docket number (if available) or Regulatory Information Number (RIN) for this rulemaking. All comments received will be posted without change to http://www.epa.gov/feddocket, including any personal information provided. For detailed instructions on submitting comments and additional information on the rulemaking process, see the “Public Participation” heading of the SUPPLEMENTARY INFORMATION section of this document.

Docket: For access to the docket to read background documents or comments received, go to http://www.epa.gov/feddocket. You may also access the Federal eRulemaking Portal at http://www.regulations.gov.

FOR FURTHER INFORMATION CONTACT: Mary McGoldrick, (202) 772-9921 (this is not a toll free number).

SUPPLEMENTARY INFORMATION: Direct all written comments to both the Department of Homeland Security and the Office of Information and Regulatory Affairs at the addresses listed in this notice. A copy of this ICR, with applicable supporting documentation, may be obtained by calling the contact listed above.

The Office of Management and Budget is particularly interested in comments which:

(1) Evaluate whether the proposed collection of information is necessary for the proper performance of the functions of the agency, including whether the information will have practical utility;

(2) Evaluate the accuracy of the agency's estimate of burden of the proposed collection of information, including the validity of the methodology and assumptions used;

(3) Enhance the quality, utility, and clarity of the information to be collected; and

(4) Minimize the burden of the collection of information on those who are to respond, including through the use of appropriate automated, electronic, mechanical, or other technological collection techniques or other forms of information technology, e.g., permitting electronic submissions of responses.

Analysis

Agency: Department of Homeland Security, Office for Civil Rights and Civil Liberties.

Title: DHS Individual Complaint of Employment Discrimination Form.

OMB Number: NEW.

Form Number: DHS Form 3090-1.

Frequency: On occasion.

Affected Public: Federal Government and individuals or households.

Estimated Number of Respondents: 1,200.

Estimated Time Per Response: 30 minutes per response.

Total Burden Hours: 600.

Total Cost Burden: None.

Description: This form will allow a complainant to submit required information used by the Department to process an employment discrimination complaint with the Department of Homeland Security. The information contained in this form will allow the Department to accept, investigate and further process, or to dismiss issues.

Dated: October 7, 2004.
Steve Cooper,
Chief Information Officer.

[FR Doc. 04-23014 Filed 10-13-04; 8:45 am]

BILLING CODE 4410-10-P